DEPARTMENT OF HOMELAND SECURITY

Coast Guard

33 CFR Part 117

[Docket No. USCG-2014-0990]

Drawbridge Operation Regulation; Trent River, New Bern, NC

AGENCY: Coast Guard, DHS.

ACTION: Notice of deviation from drawbridge regulation.

SUMMARY: The Coast Guard has issued a temporary deviation from the operating schedule that governs the Norfolk Southern Railroad Drawbridge, across Trent River, mile 0.2, at New Bern, NC, to facilitate a rehabilitation project. This bridge presently opens on demand for navigation and is usually left in the open position only to close twice a day for train crossings. This deviation allows the bridge to remain closed to navigation from 8 a.m. Monday, December 15, 2014 until 7 p.m. Friday, December 19, 2014, so that necessary maintenance may be made. The deviation is necessary to facilitate removal and replacement of the rail lift joints.

DATES: This deviation is effective from 8 a.m. on Monday, December 15, 2014 to 7 p.m. on Friday, December 19, 2014.

ADDRESSES: The docket for this deviation [USCG-2014-0990] is available at http://www.regulations.gov. Type the docket number in the “SEARCH” box and click “SEARCH”. Click on Open Docket Folder on the line associated with this deviation. You may also visit the Docket Management Facility in Room W12-140 on the ground floor of the Department of Transportation West Building, 1200 New Jersey Avenue SE., Washington, DC 20590, between 9 a.m. and 5 p.m., Monday through Friday, except Federal holidays.

FOR FURTHER INFORMATION CONTACT: If you have questions on this temporary deviation, call or email Terrance Knowles, Environmental Protection Specialist, Coast Guard; telephone 757-398-6587, email Terrance.A.Knowles@uscg.mil. If you have questions on viewing the docket, call Cheryl Collins, Program Manager, Docket Operations, at 202-366-9826.

SUPPLEMENTARY INFORMATION: The Norfolk Southern Railway operates this swing-type railroad drawbridge and has requested a temporary deviation from the current operating regulations to facilitate the rehabilitation work on the structure. The Norfolk Southern Railroad Bridge, at mile 0.2, across Trent River in Bern, NC, has a vertical clearance in the closed to navigation position of 0 feet above mean high water.

Under the current operating schedule set out in 33 CFR 117.5, the draw must open promptly and fully for the passage of vessels when a request or signal to open is given.

Under this temporary deviation, the bridge will be closed-to-navigation for maintenance and would allow the bridge to remain closed from 8 a.m. Monday, December 15, 2014 to 7 p.m. Friday, December 19, 2014, so necessary repairs may be made. Vessels will not be able to pass through when the bridge is in the closed position. The bridge will not be able to open for emergencies and there is no alternate route for vessels.

The Coast Guard will inform the users of the waterway through Local and Broadcast Notice to Mariners of the temporary deviation in operating schedule for the bridge so that vessels can arrange their transit plans accordingly. Waterway traffic consists of fishing boats, recreational boats, and occasional tugs and barges.

In accordance with 33 CFR 117.35(e), the drawbridge must return to its regular operating schedule immediately at the end of the effective period of this temporary deviation. This deviation from the operating regulations is authorized under 33 CFR 117.35.

Dated: November 12, 2014.
James L Rousseau,
Bridge Program Manager, Fifth Coast Guard District.

[FR Doc. 2014-27832 Filed 11-21-14; 8:45 am]

BILLING CODE 9110-04-P